DEPARTMENT OF COMMERCE

National Institute of Standards and Technology

Announcement of a Meeting To Explore Feasibility of Establishing a NIST/Industry Consortium on Metrological Aspects of X-Ray Diffraction and X-Ray Reflectometry Analysis

AGENCY: National Institute of Standards and Technology, Commerce.

ACTION: Notice of public meeting.

SUMMARY: The National Institute of Standards and Technology (NIST) invites interested parties to attend a pre-consortium meeting to be held on August 10, 2006 in conjunction with the 55th Annual Denver X-Ray Conference at the Denver Marriott Tech Center Hotel, in Denver, CO. The objective of this meeting is to evaluate industry interest in a NIST/Industry Consortium on metrological aspects of X-Ray Diffraction and X-Ray Reflectometry analysis.

The goals of this consortium include the development of standardized terminology and modeling methods, which will facilitate parameter comparisons between different instrument software and improve customer confidence in X-ray characterization techniques. The approach will compare results from industrial X-ray modeling and refinement approaches with NIST X-ray metrology-based approaches to establish consistency in parameter determination and in uncertainty analysis. The long-term goal of this collaboration will be NIST recommendations for X-ray data measurement and analysis methods. Recommended measurement and analysis methods in conjunction with future Standard Reference Materials will establish SI traceability between X-ray measurement and structural model parameters.

NIST staff members along with at least one technical representative from each participating member company will conduct X-ray software data refinements. Membership in the Consortium is open to the X-ray instrument vendor community, particularly equipment manufacturers with commercially available X-ray analysis software applicable to the comparative study. The term of the consortium is intended to be 5 years.

DATES: The meeting will take place on Thursday, August 10, 2006 from 5:30 p.m. to 6:30 p.m. Interested parties should contact NIST at the address, telephone number or FAX number shown below to confirm their interest in attending this meeting.

ADDRESSES: The meeting will take place at the Denver Marriott Tech Center Hotel, 4900 S. Syracuse Street, Denver, CO 80237, Room: Evergreen Ballroom.

FOR FURTHER INFORMATION CONTACT: Donald Windover or James P. Cline, Ceramics Division, National Institute of Standards and Technology (NIST), 100 Bureau Drive, MS 8520, Gaithersburg, MD 20899. Telephone: (301) 975-6102 or (301) 975-5793, FAX: 301 975-5334; e-mail: donald.windover@nist.gov or james.cline@nist.gov.

SUPPLEMENTARY INFORMATION: Any program undertaken will be within the scope and confines of The Federal Technology Transfer Act of 1986 (Pub. L. 99-502, 15 U.S.C. 3710a), which provides Federal laboratories including NIST, with the authority to enter into cooperative research agreements with qualified parties. Under this law, NIST may contribute personnel, equipment, and facilities but no funds to the cooperative research program. This is not a grant program.

Dated: June 19, 2006.
Hratch G. Semerjian,
Deputy Director.

[FR Doc. E6-10099 Filed 6-26-06; 8:45 am]

BILLING CODE 3510-13-P